DEPARTMENT OF EDUCATION

[CFDA No: 84.051B]

Career Clusters—Cooperative Agreements; Notice Inviting Applications for New Awards for Fiscal Year (FY) 2001

Note to Applicants: This notice is a complete application package. Together with the statute authorizing the program and the Education Department General Administrative Regulations (EDGAR), the notice contains all of the information, application forms, and instructions needed to apply for a grant under this competition.

Purpose of Program: The purpose of the Career Clusters Initiative, formerly known as the Building Linkages Initiative, is to enable States to establish linkages among State educational agencies, secondary and postsecondary educational institutions, employers, industry groups, other stake holders and Federal agencies. Through these linkages, States will be able to develop curricular frameworks designed to prepare students for a successful transition from high school to postsecondary education, employment in a career area, or both. For each Career Cluster project, representatives from these partner entities, agencies, or groups, will form a Career Cluster Advisory Consortium that represents all aspects of each Career Cluster area. (See Appendix A) From each Advisory Consortium an Executive Committee will be selected to provide leadership and direction for project activities. Through cooperative agreements funded under the Career Clusters Initiative, recognized academic and skill standards will be identified and/or established by each consortium, along with assessments that are organized around each Career Cluster area, with the goal of providing secondary schools of States participating in each consortium with the information needed to establish curriculum guidelines that meet the education and training needs of their students.

Eligible Applicants: “Eligible agencies” as defined in Section 3(9) of the Perkins Act are eligible to apply for funds under this program.

An eligible applicant may apply for more than one Career Cluster cooperative agreement award.

Deadline for Transmittal of Applications: January 5, 2001.

Deadline for Intergovernmental Review: January 5, 2001.

Available Funds: $2,200,000 for the first 12 months of the 24-month project period. Funding for the second 12-month period of the 24-month project period is subject to the availability of funds and to a grantee meeting the EDGAR requirements of (34 CFR 75.253).

Estimated Amount of Awards: The estimated amount of each award made under this competition is $200,000 for each Career Cluster project.

Estimated Average Size of Awards: $200,000 for the first 12 months.

Estimated Number of Awards: The Secretary hopes to fund 11 Career Cluster projects. Each eligible applicant may apply to carry out more than one project, as stated in the “Estimated Range of Awards” section.

Note: The Department is not bound by any estimates in this notice.

Project Period: 24 months.

Applicable Statute and Regulations:

(a) The relevant provisions of the Carl D. Perkins Vocational and Technical Education Act of 1998 (Perkins III), 20 U.S.C. 2301 et seq., in particular, section 114(c)(6)(A) of Perkins III (20 U.S.C. 2324(c)(6)(A)).

(b) The Education Department General Administrative Regulations (EDGAR), as follows:

(1) 34 CFR Part 75 (Direct Grant Programs).

(2) 34 CFR Part 77 (Definitions that Apply to Department Regulations).

(3) 34 CFR Part 79 (Intergovernmental Review of Department of Education Programs and Activities).

(4) 34 CFR Part 80 (Uniform Administrative Requirements for Grants and Cooperative Agreements to State and Local Governments).

(5) 34 CFR Part 81 (General Education Provisions Act—Enforcement).

(6) 34 CFR Part 82 (New Restrictions on Lobbying).

(7) 34 CFR Part 85 (Government-wide Debarment and Suspension (Nonprocurement) and Government-wide Requirements for Drug-Free Workplace (Grants)).

(8) 34 CFR Part 86 (Drug and Alcohol Abuse Prevention).

(9) 34 CFR Part 97 (Protection of Human Subjects).

(10) 34 CFR Part 98 (Student Rights In Research, Experimental Programs and Testing).

(11) 34 CFR Part 99 (Family Educational Rights and Privacy).

SUPPLEMENTARY INFORMATION:

Background

The Career Clusters Initiative began in 1996 as the Building Linkages Initiative and was a collaborative effort between the U.S. Department of Education, the Office of Vocational and Adult Education (OVAE), the National School-to-Work Office (NSTWO) and the National Skill Standards Board (NSSB). The purpose of the Initiative was to establish linkages among State educational agencies, secondary and postsecondary educational institutions, employers, industry groups, other stakeholders and Federal agencies. The goal was to create curricular frameworks in broad career clusters, designed to prepare students to transition successfully from high school to postsecondary education and employment in a career area, or both. Two Career Cluster projects (Health Science and Manufacturing) have completed their final year of development. Arts/Audio Video Technology and Communications, Information Technology and the Transportation/Distribution, and Logistics projects were funded by contract and began in the fall of 1999, under authority of the Carl D. Perkins Act of 1990 (Perkins II).

The Career Clusters Initiative continues to evolve and expand based on lessons learned from these earlier efforts. The creation of curricular models within the context of broad career clusters ensures the alignment of academic and technical instructional strategies with the requirements of postsecondary education and the expectations of employers in increasingly academic and technologically demanding careers.

Education officials across the country are continuously being challenged to demonstrate that their students are achieving high levels of academic and technical competency. Curriculum strategies, developed through the Career Clusters Initiative, can increase student achievement by providing a context in which challenging math, science, language arts and other academic subjects can be made relevant to students and to their postsecondary education and career choices. Students who, in addition to meeting State academic requirements, can also meet standards related to their Career Cluster will be well prepared to transition to postsecondary education, employment in their career of choice, or both.

The vocational education field has historically responded to the needs of the national economy by preparing individuals to enter jobs in demand. Vocational education played a vital role helping our nation transition from an agricultural economy to an industrial economy through education and training. Today, schools are faced with the new challenge of helping our nation and its people transition from an industrial economy to a “new knowledge” economy. In response to this challenge, OVAE recently adopted 16 Career Clusters that redefine the role of vocational education. Organizing schools around Career Clusters provides an ideal mechanism for high school reform efforts and establishes a structure that promotes and sustains the components of school-to-work.

Through the cooperative agreements awarded under this Career Clusters competition, the U.S. Department of Education, in cooperation with the National School-to-Work Office, will facilitate the completion of the remaining 11 Career Clusters. The Secretary will fund these cooperative agreements under authority of section 114(c)(6)(A) of Perkins III. Under this provision, the Secretary is authorized to carry out demonstration vocational and technical education programs, to replicate model vocational and technical education programs, to disseminate best practices information, and to provide technical assistance upon the request of a State, for the purposes of developing, improving, and identifying the most successful methods and techniques for providing vocational and technical education programs assisted under Perkins III.

By awarding cooperative agreements under section 114(c)(6)(A) of Perkins III, the Secretary hopes to work more closely with State consortia to assist them in their development of vocational education curricular frameworks. It is the Secretary's intent that the curricular frameworks developed by States for the eleven career areas listed in Appendix A to this notice will serve to better meet the academic and training needs of students seeking postsecondary education, or employment in one of these career areas, or both.

The projects funded through these cooperative agreements will be required to use the established standards-based Career Cluster framework (see “Required Activities”) for Career Clusters previously funded, as the blueprint for development activities.

Required Activities

(a) Under this competition, for each Career Cluster project, grantees must carry out thirteen tasks which, when completed, form the Career Cluster Framework:

(1) Establish an Advisory Consortium and an Executive Committee. The appropriate selection of these partners is crucial to ensure an end product that is recognized by all stakeholders and of value for States.

(2) Identify the education and industry certificates, as well as postsecondary degree options (including entry-level through management/professional career opportunities) available to students and recognized by employers.

(3) Organize or subdivide the occupations, within each cluster, into pathways or concentrations that group the cluster occupations based on commonalities.

(4) Identify existing and/or establish broad career-cluster-related standards with specific content standards for the cluster, as well as for the pathways that are State-recognized.

(5) Establish suggested curriculum guidelines for cluster and pathway content standards.

(6) Select a minimum of ten high schools to pilot the established cluster and pathway content standards.

(7) Conduct pilot testing of the cluster and pathway content standards.

(8) Connect existing and/or develop State assessment instruments agreed upon by the States for cluster and pathway content standards that are recognized by both employers and postsecondary education institutions.

(9) Establish a portable skill certification program agreed upon by the States that documents student mastery of cluster and pathway content standards that are recognized by employers and postsecondary education institutions.

(10) Conduct pilot testing of the assessment instruments and portable skill certificate processes at the selected pilot sites.

(11) Develop rollout strategies for implementing the completed cluster project to other States and to territories.

(12) Establish a structure and strategies for ensuring sustainability of the Advisory Consortium and Executive Committee after completion of the Career Cluster project.

(13) Develop strategies for professional development and teacher preparation within the Career Cluster.

Priorities

Invitational Priorities

The Secretary is especially interested in applications that meet the following priorities:

Invitational Priority 1

Applications that propose to align products and services to be provided with the 11 industry-based career areas identified in this notice and required as the reporting framework for the new student enrollment form which is part of the Consolidated Annual Report (CAR) required for basic grants under Perkins III. (These career areas are discussed in the supplementary information section of this notice and are defined in Appendix A to this notice.)

Invitational Priority 2

Applications that propose to develop products and services that assist State and local users to achieve student outcomes established by performance measurement and accountability systems under development by Federal and State educational agencies, vocational education agencies, and in workforce development programs.

Under 34 CFR 75.105(c)(1), the Secretary does not give an application that meets these invitational priorities a competitive or absolute preference over other applications.

Selection Criteria

The Secretary uses the following selection criteria to evaluate applications for new cooperative agreements under this competition. The Secretary awards a total possible score of 100 points. The maximum possible score for each criterion is indicated in parentheses.

(1) Advisory Consortium and Executive Committee Experience and Commitment (Maximum Total of 40 points).

(a) The application includes evidence of commitment and support from the proposed members of the Advisory Consortium and Executive Committee for the utilization of Career Clusters in both education and employer settings. (10 points)

(b) The application demonstrates broad representation of consortium partners from all levels of postsecondary education, as well as employers and industry groups and other relevant stakeholders representing local, state and national perspectives. (10 points)

(c) The application includes evidence of consortium support from consortium partners in the form of funding from non-Federal sources and/or “in kind”contributions. (10 points)

(d) The application includes strategies for sustainability of the Career Cluster project after the initial development. (10 points)

(2) Technical Approach (Maximum 35 points).

(a) The applicant demonstrates a clear understanding of the Career Clusters Framework purpose and scope of the project. (15 points)

(b) The applicant comprehensively addresses all specified required activities in the application, clearly defining the activities to be undertaken to accomplish each activity. (15 points)

(c) The proposed project is described in a clear and comprehensive manner that is appropriate to the required program activities. The applicant identifies design improvements and additional activities that may enhance the proposed project and describes any anticipated problems and recommends solutions. (5 points)

(3) Management Plan (Maximum 15 points).

(a) The application includes a description, in a clear and sequential fashion, of the plan for managing the project. The plan provides credible evidence that the management of personnel, physical resources, activities, and work production will result in orderly and timely completion of work within the project performance period. (10 points)

(b) The time commitments of the Project Director and Executive Committee are appropriate to the tasks assigned. (5 points)

(4) Executive Committee (Maximum 10 points).

The Project Director and Executive Committee possess clearly identified and documented qualifications, competencies, and experiences that are appropriate for the tasks to be carried out under this cooperative agreement.

Intergovernmental Review of Federal Programs

This program is subject to the requirements of Executive Order 12372 (Intergovernmental Review of Federal Programs) and the regulations in 34 CFR part 79.

One of the objectives of the Executive order is to foster an intergovernmental partnership and a strengthened federalism. The Executive order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedures established in each State under the Executive order. If you want to know the name and address of any State Single Point of Contact (SPOC), see the list published in the Federal Register on April 28, 1999 (64 FR 22963), or you may view the latest SPOC list on the web site of the Office of Management and Budget at the following address: http://www.whitehouse.gov/omb/grants

In States that have not established a process or chosen a program for review, State, area-wide, regional, and local entities may submit comments directly to the Department.

Any State Process Recommendation and other comments submitted by a SPOC and any comments from State, area-wide, regional, and local entities must be mailed or hand-delivered by the date indicated in this application notice to the following address: The Secretary, E.O. 12372-CFDA No: 84.051B, U.S. Department of Education, Room 7E200, 400 Maryland Avenue, SW., Washington, DC 20202-0125.

We will determine proof of mailing under 34 CFR 75.102 (Deadline date for applications). Recommendations or comments may be hand-delivered until 4:30 p.m. (Washington, DC time) on the date indicated in this notice.

PLEASE NOTE THAT THE ABOVE ADDRESS IS NOT THE SAME ADDRESS AS THE ONE TO WHICH THE APPLICANT SUBMITS ITS COMPLETED APPLICATION. DO NOT SEND APPLICATIONS TO THE ABOVE ADDRESS.

Waiver of Rulemaking

Under the Administrative Procedure Act (5 U.S.C. 553) the Department generally offers interested parties the opportunity to comment on proposed regulations. However, in order to make timely cooperative agreement awards in FY 2001, the Secretary has decided to issue this application notice with program requirements and selection criteria without first publishing the notice for public comment. These requirements and criteria will apply to the FY 2001 cooperative agreement competition. The Secretary takes this action under authority of section 437(d)(1) of the General Education Provisions Act (GEPA). Section 437(d)(1) of GEPA exempts from formal rulemaking requirements, regulations governing the first grant competition under a new or substantially revised program authority (20 U.S.C. 1232(d)(1)). The program authority for Vocational Education National Activities was substantially revised on October 31, 1998 by Public Law 105-332. Any requirements or criteria that the Department establishes in future years, will be published in proposed form in the Federal Register with an opportunity for interested parties to comment.

Instructions for Transmitting Applications

If you want to apply for a cooperative agreement and be considered for funding, you must meet the following deadline requirements:

(a) If You Send Your Application by Mail—

You must mail the original and two copies of the application on or before the deadline date to: U.S. Department of Education, Application Control Center, Attention: (CFDA No: 84.051B), Washington, D.C. 20202-4725.

You must show one of the following as proof of mailing:

(1) A legibly dated U.S. Postal Service postmark.

(2) A legible mail receipt with the date of mailing Stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S Postal Service.

(b) If You Deliver Your Application by Hand—

You must hand deliver the original and two copies of the application by 4:30 p.m. (Washington, DC time) on or before the deadline to: U.S. Department of Education, Application Control Center, Attention: (CFDA No: 84.051B), Room #3633, Regional Office Building 3, 7th and D Streets, SW., Washington, DC 20202-4725.

The Application Control Center accepts application deliveries daily between 8 a.m. and 4:30 p.m. (Washington, DC time), except Saturdays, Sundays, and Federal holidays. The Center accepts application deliveries through the D Street entrance only. A person delivering an application must show identification to enter the building.

(c) If You Submit Your Application by Courier—You must deliver the original and two copies of your application to the courier service on or before the deadline date. You must show as proof of delivery to the courier service a dated shipping label, invoice, or receipt from the courier service.

The courier service must deliver your application to: U.S. Department of Education, Application Control Center, Attention: (CFDA No: 84.051B), Room #3633, Regional Office Building 3, 7th & D Streets, S.W, Washington, DC 20202-4725.

The Application Control Center accepts application deliveries daily between 8 a.m. and 4:30 p.m. (Washington, DC time), except Saturdays, Sundays and Federal holidays. The Center accepts application deliveries through the D Street entrance only. A courier delivering an application must show identification to enter the building.

Notes: (1) The U.S. Postal Service does not uniformly provide a dated postmark. Before relying on this method, you should check with your local post office.

(2) If you send your application by mail or deliver it by hand or by a courier service, the Application Control Center will mail a Cooperative Agreement Application Receipt Acknowledgment to you. If you do not receive the notification of application receipt within 15 days from the date of mailing the application, you should call the U.S. Department of Education Application Control Center at (202) 708-9494.

You must indicate on the envelope and—if not provided by the Department—in Item 3 of the Application for Federal Education Assistance (ED Form 424; revised January 12, 1999) the CFDA number—and suffix letter, if any—of the competition under which you are submitting your application.

Application Instructions and Forms

The Appendix to this notice contains forms and instructions, a statement regarding estimated public reporting burden, a notice to applicants regarding compliance with section 427 of the General Education Provisions Act, and various assurances and certifications. Please organize the parts and additional materials in the following order:

Application for Federal Education Assistance (ED 424 (Rev. 1/12/99)) and instructions.

Budget Information—Non-Construction Programs (ED Form 524 and instructions.

Application Narrative.

Assurances—Non-Construction Programs (Standard Form 424B) (Rev. 7-97)

Certifications regarding Lobbying; Debarment, Suspension, and Other Responsibility Matters; and Drug-Free Workplace Requirements (ED 80-0013, 12/98) and instructions.

Certification regarding Debarment, Suspension, Ineligibility and Voluntary Exclusion: Lower Tier Covered Transactions (ED 80-0014, 9/90) and instructions. (NOTE: ED 80-0014 is intended for the use of grantees and should not be transmitted to the Department.)

Disclosure of Lobbying Activities (Standard Form LLL (Rev. 7/97)) (if applicable) and instructions.

You may submit information on a photocopy of the application and budget forms, the assurances, and the certifications. However, the application form, the assurances, and the certifications must each have an original signature. We will not award a cooperative agreement unless we have received a completed application form.

FOR FURTHER INFORMATION CONTACT: Mr. Scott Hess, Division of Vocational-Technical Education, Office of Vocational and Adult Education, U.S. Department of Education, 400 Maryland Avenue, SW. (Room 4329, Mary E. Switzer Building), Washington, DC 20202-7241. Telephone (202) 205-9422. If you are using a telecommunications device for the deaf (TDD), you may call the Federal Information Relay Service (FIRS) at 1-800-877-8339.

Electronic Access to This Department

You may view this document, as well as all other Department of Education documents published in the Federal Register, in text or Adobe portable document format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Additionally, this notice, as well as other documents concerning the implementation of the Carl D. Perkins Vocational and Technical Education Act of 1998, is available on the World Wide Web at the following site: ­ http://www.ed.gov/offices/OVAE/VocEd/InfoBoard/legis.html

Dated: November 30, 2000.
Robert Muller,
Deputy Assistant Secretary, Office of Vocational and Adult Education.

Appendix A—Eleven Career Areas

Definitions

(a) Agriculture and Natural Resources, comprised of courses and/or programs related to planning, managing and performing agricultural production and horticulture and landscaping services and related professional and technical services, mining and extraction operations, and managing and conserving natural resources and related environmental services;

(b) Architecture and Construction, comprised of courses and/or programs relating to designing, planning, managing, building, and maintaining physical structures and the larger building environment including roadways and bridges and industrial, commercial and residential facilities and buildings;

(c) Wholesale/Retail Sales and Services, comprised of courses and/or programs related to planning, managing and performing wholesaling and retailing services and related marketing and distribution support services including merchandise/product management and promotion;

(d) Finance, comprised of courses and/or programs related to planning, managing and providing banking, investment, financial planning, and insurance services;

(e) Hospitality and Tourism, comprised of courses and/or programs related to hospitality and tourism and to planning, managing and providing lodging, food, recreation, convention and tourism, and related planning and support services such as travel-related services;

(f) Business and Administration, comprised of courses and/or programs related to planning, managing, and providing administrative support, information processing, accounting, and human resource management services and related management support services;

(g) Human Services, comprised of courses and/or programs related to planning, managing, and providing human services including social and related community services;

(h) Law and Public Safety, comprised of courses and/or programs related to planning, managing and providing judicial, legal, and protective services, including professional and technical support services in the fire protection and criminal justice systems;

(i) Scientific Research and Engineering, comprised of courses and/or programs related to planning, managing, and providing scientific research and professional and technical services (e.g., physical science, social science, engineering), including laboratory and testing services, and research and development services;

(j) Education and Training, comprised of courses and/or programs related to planning, managing and providing education and training services, and related learning support services, including assessment and library and information services; and

(k) Government and Public Administration, comprised of courses and/or programs related to planning, managing and providing government, legislative, administrative and regulatory services and related general purpose government services at the Federal, State and local levels.

Instructions for Part II—Budget Information Sections A and B—Budget Summary by Categories

1. Personnel: Show salaries to be paid to personnel for each budget year.

2. Fringe Benefits: Indicate the rate and amount of fringe benefits for each budget year.

3. Travel: Indicate the amount requested for both local and out of State travel of Project Staff for each budget year. Include funds for at least two trips per year for two people to attend the Project Directors' Workshop.

4. Equipment: Indicate the cost of non-expendable personal property that has a cost of $5,000 or more per unit for each budget year.

5. Supplies: Include the cost of consumable supplies and materials to be used during the project period for each budget year.

6. Contractual: Show the amount to be used for: (1) Procurement contracts (except those which belong on other lines such as supplies and equipment); and (2) subcontracts for each budget year.

7. Construction: Not Applicable

8. Other: Indicate all direct costs not clearly covered by lines 1 through 6 above, including consultants and capital expenditures for each budget year.

9. Total Direct Cost: Show the total for Lines 1 through 8 for each budget year.

10. Indirect Costs: Indicate the rate and amount of indirect costs for each budget year.

11. Training/stipend Cost: Not applicable. This item pertains only to student and institutional allowances.

12. Total Costs: Show total for lines 9 through 11 for each budget year.

Part III: Budget Narrative

Instructions for Part III—Budget Narrative

The budget narrative should explain, justify, and, if needed, clarify your budget summary. For each line item (personnel, fringe benefits, travel, etc.) in your budget, explain why it is there and how you computed the costs.

Please limit this section to no more than five pages. Be sure that each page of your application is numbered consecutively.

Part IV: Program Narrative

Instructions for Part IV—Program Narrative

The program narrative will comprise the largest portion of your application. This part is where you spell out the who, what, when, why, and how, of your proposed project.

Although you will not have a form to fill out for your narrative, there is a format. This format is based on the selection criteria. Because your application will be reviewed and rated by a review panel on the basis of the selection criteria, your narrative should follow the order and format of the criteria.

Before preparing your application, you should carefully read the legislation and EDGAR regulations governing this program, eligibility requirements, priorities, and the selection criteria for this process.

Your program narrative should be clear, concise, and to the point. Begin the narrative with a one page abstract or summary of your project. Then describe the project in detail, addressing each selection criterion in order.

The Secretary strongly suggests that you limit the program narrative to no more than 30 double-spaced, typed pages (on one side only), although the Secretary will consider your application if it is longer. Be sure to number consecutively ALL pages in your application.

You may include supporting documentation as appendices to the program narrative. Be sure that this material is concise and pertinent to this program.

You are advised that—

(a) The Secretary considers only information contained in the application in ranking applications for funding consideration. Letters of support sent separately from the formal application package are not considered in the review by the technical review panels. (34 CFR 75.217)

(b) The technical review panel evaluates each application solely on the basis of the selection criteria contained in this notice.

(c) Letters of support included as appendices to an application, that are of direct relevance to or contain commitments that pertain to the established selection criteria, such as commitment of resources, will be reviewed by the panel. As noted above in paragraph (a), letters of support sent separately from the formal application package are not considered in the review by the technical review panel. (34 CFR 75.217)

(2) An applicant that proposes to develop instructional materials for classroom use might describe how it will make the materials available on audio tape or in Braille for students who are blind.

(3) An applicant that proposes to carry out a model science program for secondary students and is concerned that girls may be less likely than boys to enroll in the course, might indicate how it tends to conduct “outreach” efforts to girls, to encourage their enrollment.

We recognize that many applicants may already be implementing effective steps to ensure equity of access and participation in their grant programs, and we appreciate your cooperation in responding to the requirements of this provision.

Estimated Burden Statement

According to the Paperwork Reduction Act of 1995, no persons are required to respond to a collection of information unless it displays a valid OMB control number. The valid OMB control number for this information collection is 1830-0546. (Expiration date: 11-30-2003). The time required to complete this information collection is estimated to average 40 hours per response, including the time to review instructions, search existing data resources, gather the data needed, and complete and review the information collection.

If you have any comments concerning the accuracy of the time estimate(s) or suggestions for improving this grant application, please write to: U.S. Department of Education, Washington, D.C. 20202-4651.

If you have comments or concerns regarding the status of your individual submission of this grant application, write directly to: Mr. Scott Hess, Division of Vocational and Technical Education, Office of Vocational and Adult Education, U.S. Department of Education, 400 Maryland Avenue, S.W. (Room 4329, Mary E. Switzer Building), Washington D.C. 20202-7242.

BILLING CODE 4000-01-U

[FR Doc. 00-31034 Filed 12-5-00; 8:45 am]

BILLING CODE 4000-01-C